DEPARTMENT OF HEALTH AND HUMAN SERVICES

National Institutes of Health

National Institute of General Medical Sciences; Amended Notice of Meeting

Notice is hereby given of a change in the meeting of the National Advisory General Medical Sciences Council, September 18, 2008, 8:30 a.m. to September 19, 2008, 5 p.m., National Institutes of Health, Natcher Building, Conference Rooms E1 & E2, 9000 Rockville Pike, Bethesda, MD, 20892 which was published in the Federal Register on August 21, 2008, 73 FR 49468-49469.

The meeting will be open to the public on September 19, 2008 from 8:30 a.m. to adjournment. The meeting is partially closed to the public.

Dated: September 9, 2008.
Jennifer Spaeth,
Director, Office of Federal Advisory Committee Policy.

[FR Doc. E8-21524 Filed 9-16-08; 8:45 am]

BILLING CODE 4140-01-M